SECURITIES AND EXCHANGE COMMISSION

17 CFR Part 240

[Release No. 34-68357A; File No. S7-44-10]

RIN 3235-AK87

Extension of Dates for Certain Requirements and Amendment of Form 19b-4

AGENCY: Securities and Exchange Commission.

ACTION: Final rule; extension of dates for certain requirements; correction.

SUMMARY: On December 10, 2012, the Securities and Exchange Commission (“Commission”) published a document in the Federal Register to amend its regulations under the Securities Exchange Act of 1934 (“Exchange Act”) to extend the dates with respect to the requirements that designated clearing agencies for which the Commission is the supervisory agency file advance notices and clearing agencies file security-based swap submissions with the Commission in an electronic format to dedicated email addresses to December 10, 2013, and amend the General Instructions to Form 19b-4 to clarify the process for submitting advance notices and security-based swap submissions to the Commission. The document contained an error with respect to the placement and numbering of a footnote.

DATES: Effective December 18, 2012.

FOR FURTHER INFORMATION CONTACT: Kenneth Riitho, Special Counsel, at 551-5592; and Wyatt A. Robinson, Attorney-Adviser, at 551-5649, Division of Trading and Markets, Securities and Exchange Commission, 100 F Street NE., Washington, DC 20549-7010.

SUPPLEMENTARY INFORMATION:

Correction

In the Federal Register of December 10, 2012 (77 FR 73302), in FR Doc. 2012-29712, the following corrections are made to page 73305:

1. In the second column, remove footnote 22.

2. In the second column, under General Instructions for Form 19b-4, the first sentence is corrected to read as follows:

“This form shall be used for all self-regulatory organization filings of proposed rule changes pursuant to Section 19(b)(1) of the Securities Exchange Act of 1934 (“Act”) (except filings with respect to the proposed rule changes by self-regulatory organizations submitted pursuant to Section 19(b)(7) ¹ of the Act), security-based swap submissions, and advance notices.”

¹ Because Section 19(b)(7)(C) of the Act states that filings abrogated pursuant to this Section should be re-filed pursuant to paragraph (b)(1) of Section 19 of the Act, SROs are required to file electronically such proposed rule changes in accordance with this form.

* * * * *

December 12, 2012.
Kevin M. O'Neill,
Deputy Secretary.

[FR Doc. 2012-30389 Filed 12-17-12; 8:45 am]

BILLING CODE 8011-01-P